DEPARTMENT OF AGRICULTURE

Forest Service

Helena National Forest, Lewis and Clark County, MT; Copper Creek Road Improvements

AGENCY: Forest Service, USDA.

ACTION: Notice of cancellation of an environmental impact statement.

SUMMARY: On December 13, 2002 the USDA Forest Service published in the Federal Register (67 FR 76714) a Notice of Intent (NOI) to prepare an environmental impact statement (EIS) for the Copper Creek Road Improvements project on the Lincoln Ranger District of the Helena National Forest. A proposed action associated with the December 13, 2002 NOI was scoped and preliminary environmental analysis was conducted in summer 2003. In August 2003, the existing condition of the Copper Creek drainage was substantially changed as the majority of the drainage burned in the 30,706 acre Snow Talon Fire. Due to the changed condition and funding limitations the decision has been made not to continue the environmental analysis process for the Copper Creek Road Improvements project. Therefore, an EIS will not be prepared, and the NOI is hereby canceled.

ADDRESSES AND FOR FURTHER INFORMATION: Questions about the cancellation of the NOI should be directed to Dan Seifert—Resource Planner, Lincoln Ranger District, 1569 Highway 200, Lincoln, MT 59639; phone number is (406) 362-4265; e-mail address is dseifert@fs.fed.us.

Dated: March 5, 2004.
Thomas J. Clifford,
Forest Supervisor, Helena National Forest.

[FR Doc. 04-5737 Filed 3-12-04; 8:45 am]

BILLING CODE 3410-11-P